DEPARTMENT OF THE INTERIOR

National Park Service

National Register of Historic Places; Notification of Pending Nominations and Related Actions

Nominations for the following properties being considered for listing or related actions in the National Register were received by the National Park Service before July 7, 2007. Pursuant to § 60.13 of 36 CFR Part 60 written comments concerning the significance of these properties under the National Register criteria for evaluation may be forwarded by United States Postal Service, to the National Register of Historic Places, National Park Service, 1849 C St. NW., 2280, Washington, DC 20240; By all other carriers, National Register of Historic Places, National Park Service, 1201 Eye St. NW., 8th floor, Washington DC 20005; or by fax, 202-371-6447. Written or faxed comments should be submitted by August 7, 2007.

Paul R. Lusignan,
Acting Chief, National Register of Historic Places/National Historic Landmarks Program.

COLORADO

Adams County

Bromley Farm—Koizuma Hishinuma Farm, 15820 E. 152nd Ave., Brighton, 07000811

MARYLAND

Frederick County

Woods Mill Farm, 11210 Cash Smith Rd., Woodsboro, 07000812

MISSOURI

Buchanan County

Western Tablet and Stationery Company, Building #2, (St. Joseph, Buchanan County, Missouri MPS AD) 1300 S 12th St., St. Joseph, 07000814

Callaway County

Court Street Historic Residential District, Roughly along Court bet. St. Louis and 10th Sts., Fulton, 07000817

St. Louis Independent City

Ramsey Accessories Manufacturing Corporation, 3693 Forest Park Blvd., St. Louis (Independence City), 07000813

MONTANA

Carbon County

Kero Farmstead Historic District, 223 W. Bench Rd., Roberts, 07000815

Lake County

Big Arm School, 7th and D Sts., Big Arm, 07000816

NORTH CAROLINA

Alamance County

Alamance Mill Village Historic District, 3927-3981 NC 62 S, Great Alamance Creek W of NC 62S, Alamance, 07000821

Cabarrus County

Peeler, Harvey Jeremiah, House, 101 S. Ridge Ave., Kannapolis, 07000818

Forsyth County

Nissen, S.J., Building, 310 E. Third St., Winston-Salem, 07000820

Madison County

Marshall Main Street Historic District, 101 N. Main St.—165 S. Main St., Bridge St. and 33 Bailey's Branch Rd., Marshall, 07000819

NORTH DAKOTA

Hettinger County

Neuburg Congregational Church, 83rd Ave. SW. and 57 St. SW., Mott, 07000822

OREGON

Lane County

Southern Pacific Passenger Depot, 433 Williamette St., Eugene, 07000823

Multnomah County

Lone Fir Cemetery, 2115 SE., Morrison St., Portland, 07000824

VIRGINIA

Buena Vista Independent City

Seay, W.N., House, 245 W. 26th St., Buena Vista (Independent City), 07000826

Cumberland County

Cumberland Court House Historic District, VA 60, jct. of VA 600, Cumberland, 07000829

Franklin County

Dudley, Gwin, Home Site, Twin Chimneys Dr., Wirtz, 07000827

Loudoun County

Home Farm, 40332 Mount Gilead, Leesburg, 07000828

Louisa County

Duke House, 2729 Diggstown Rd., Bumpass, 07000830

Lunenburg County

Spring Bank, 1070 Courthouse Rd., Lunenburg Courthouse, 07000825

WASHINGTON

Pierce County

Hershey, Peter L. and Emma, Homestead, 33514 Mount Tahoma Canyon Rd., Ashford, 07000833

Spokane County

Ehrenberg, Gus and Florence, House, 1304 S. Cook St., Spokane, 07000832

Solby, William and Margaret, House, 1325 E. 20th Ave., Spokane, 07000831

Thomas, Dr. Charles and Elsie, House, 1212 N. Summit Blvd., Spokane, 07000834

WISCONSIN

Monroe County

Marz, Albert and Theresa, House, 805 Cashton Ave., Cashton, 07000835.

In the interest of preservation the Comment Period for the following resource is reduced to 2 (two) days:

DISTRICT OF COLUMBIA

District of Columbia

Hilltop Manor, (Apartment Buildings in Washington, DC, MPS) 3500 14th St. NW., Washington, 07000810.

[FR Doc. E7-14138 Filed 7-20-07; 8:45 am]

BILLING CODE 4312-51-P